DEPARTMENT OF HEALTH AND HUMAN SERVICES

Centers for Disease Control and Prevention

[30Day-09-08AA]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Evaluation of health communication messages for Infertility Prevention Campaign—New—National Center for HIV/AIDS, Viral Hepatitis, Sexually Transmitted Diseases, and Tuberculosis Elimination Programs (NCHHSTP), Centers for Disease Control and Prevention (CDC).

Background and Brief Description

The purpose of the proposed study is to develop, test, implement, and evaluate the effectiveness and satisfaction with Chlamydia health messages, products, and methods of dissemination.

Chlamydia (CT) is among the leading causes of pelvic inflammatory disease (PID), which can lead to infertility, ectopic pregnancy, and chronic pelvic pain. Most cases of CT are asymptomatic so infected girls and women are unaware of their infections. CDC estimates that in 2006, young women aged 15 to 19 years had the highest CT rate (2,862 cases per 100,000 females), followed by women aged 20 to 24 (2,797 cases per 100,000 females). These rates are likely to be underestimates, because many infected persons do not seek medical care and testing. Data at CDC suggests that CT develops into PID in up to 40% of untreated women and that 12% of women are infertile after their first experience with PID.

CDC plans to obtain public preferences that will guide the development of health communication messages/materials about CT with females in the following age groups: 15-17 years who attend school; 15-17 years who do not attend school: 18-25 years who are employed: And 18-25 years who attend school full-time. Focus groups will be conducted at local pre-determined focus group facilities, and surveys will be conducted online and in malls. Women ages 18-25 years, both employed and working full-time, will be recruited by phone through professional recruitment vendors for focus groups; and in malls and on social networking sites for surveys. Girls ages 15-17 years, who do and do not attend school full-time, will be recruited by phone through professional recruitment vendors for focus groups, after obtaining parental consent; and, in malls and through social networking sites (without parental consent) for surveys. The Academy for Educational Development will be conducting the research. There is no cost to respondents other than their time. The total estimated annual burden hours are 481.

Estimated Annualized Burden Hours
Type of respondent | Form name | Number of respondents | Number of responses per respondent | Average burden per response (in hours)
Parents of 15-17 yr old | Focus Group Screener for Parents of Minors | 54 | 1 | 5/60
Females (15-17 yr old) | Focus Group Screener for Minors | 54 | 1 | 5/60
Female (18-25 yr old) | Focus Group Screener for Adult Women | 126 | 1 | 5/60
Female (15-25 yr old) | Focus Group Moderator Guide (15-25) | 180 | 1 | 2
Female (15-25 yr old) | Mall Intercept Screener & Moderator Guide (15-25) | 200 | 1 | 10/60
Female (15-25 yr old) | Online Screener and Survey (15-25) | 500 | 1 | 8/60

Dated: July 16, 2009.
Marilyn S. Radke,
Reports Clearance Officer, Centers for Disease Control and Prevention.

[FR Doc. E9-17525 Filed 7-22-09; 8:45 am]

BILLING CODE 4163-18-P